DEPARTMENT OF VETERANS AFFAIRS

Advisory Committee on Homeless Veterans, Notice of Meeting

The Department of Veterans Affairs (VA) gives notice under the Federal Advisory Committee Act, 5 U.S.C. ch. 10, that the Advisory Committee on Homeless Veterans will meet on April 16-18, 2024. The April 2024 meeting sessions will begin and end as follows:

Date | Time | Open session
April 16, 2024 | 9 a.m.-4:30 p.m. eastern standard time (EST) | Yes.
April 17, 2024 | 9 a.m.-4:30 p.m. EST | No.
April 18, 2024 | 9 a.m.-4:30 p.m. EST | No.

The meeting sessions are open to the public, except during the time the Committee is conducting tours of VA facilities. Tours of VA facilities are closed, to protect Veterans' privacy and personal information, in accordance with 5 U.S.C. 552b(c)(6).

The purpose of the Committee is to provide the Secretary of Veterans Affairs on the provision of benefits and services to Veterans experiencing homelessness. In providing this advice, the Committee shall assemble and review information relating to the needs of homeless Veterans; provide an ongoing assessment of the effectiveness of the policies, organizational structures, and services of VA in assisting Veterans experiencing homelessness; and provide ongoing advice on the most appropriate means of providing assistance to Veterans experiencing homelessness.

On April 16, 2024, the meeting will be a hybrid, held in-person at the Asheville Buncombe Community Christian Ministry Transformation Village at 45 Rocky Ridge Road, Asheville, NC 28806; and virtually via Zoom conferencing. The agenda will include briefings from VA and other Federal, state and local agencies regarding services for homeless Veterans.

On April 17-18, 2024, Committee members will tour the Asheville VA Medical Center, Asheville Buncombe Community Christian Ministry Transformation Village and Veterans service facilities that support homeless Veterans.

Time will be allocated at the April 16, 2024, meeting for receiving oral or written presentations from the public. By March 18, 2024, interested parties that would like to provide oral or written presentations on issues affecting homeless Veterans should send such presentations to Anthony Love, Designated Federal Official, Veterans Health Administration Homeless Programs Office (11HPO), U.S. Department of Veterans Affairs, 810 Vermont Avenue NW (11HPO), Washington, DC 20420, at achv@va.gov, for distribution to the Committee.

Additionally, members of the public who wish to attend the April 16, 2024, meeting virtually, please use the Zoom link below to sign in. For those attending in person, a photo I.D. may be required at the Guard's Desk as a part of the entrance screening process. Due to an increase in security protocols, you should arrive 30 minutes before the meeting begins. An escort for meeting attendees will be provided until 8:45 a.m. EST. Attendees who require reasonable accommodations should notify Anthony Love at achv@va.gov. The meeting link and call-in numbers are noted below:

April 16, 2024 Meeting (9 a.m.-4:30 p.m. EST)

Zoom: https://us06web.zoom.us/j/84993578711?pwd=U5QWaZlPCL2FSqa89RuJygmwxrMi9P.1

Meeting ID: 849 9357 8711

Passcode: 466465

Mobile:

Meeting ID: 849 9357 8711

Passcode: 466465

+1 305 224 1968 US

+1 309 205 3325 US

+1 312 626 6799 US (Chicago)

+1 646 558 8656 US (New York)

+1 646 931 3860 US

+1 301 715 8592 US (Washington DC)

+1 360 209 5623 US

+1 386 347 5053 US

+1 507 473 4847 US

+1 564 217 2000 US

+1 669 444 9171 US

+1 689 278 1000 US

+1 719 359 4580 US

+1 720 707 2699 US (Denver)

+1 253 205 0468 US

+1 253 215 8782 US (Tacoma)

+1 346 248 7799 US (Houston)

Dated: January 31, 2024.
Jelessa M. Burney,
Federal Advisory Committee Management Officer.

[FR Doc. 2024-02214 Filed 2-2-24; 8:45 am]

BILLING CODE P